DEPARTMENT OF ENERGY

Federal Energy Regulatory Commission

Combined Notice of Filings

Take notice that the Commission has received the following Natural Gas Pipeline Rate and Refund Report filings:

Docket Numbers: RP20-357-000.

Applicants: Iroquois Gas Transmission System, L.P.

Description: § 4(d) Rate Filing: 122319 Negotiated Rates—Freepoint Commodities LLC R-7250-26 to be effective 1/1/2020.

Filed Date: 12/23/19.

Accession Number: 20191223-5007.

Comments Due: 5 p.m. ET 1/6/20.

Docket Numbers: RP20-358-000.

Applicants: Iroquois Gas Transmission System, L.P.

Description: § 4(d) Rate Filing: 122319 Negotiated Rates—Freepoint Commodities LLC R-7250-27 to be effective 1/1/2020.

Filed Date: 12/23/19.

Accession Number: 20191223-5008.

Comments Due: 5 p.m. ET 1/6/20.

Docket Numbers: RP20-359-000.

Applicants: El Paso Natural Gas Company, L.L.C.

Description: § 4(d) Rate Filing: Non-Conforming Negotiated Rate Agreement Update (SoCal Feb 20) to be effective 2/1/2020.

Filed Date: 12/23/19.

Accession Number: 20191223-5052.

Comments Due: 5 p.m. ET 1/6/20.

Docket Numbers: RP20-360-000.

Applicants: Adelphia Gateway, LLC.

Description: § 4(d) Rate Filing: Adelphia Negotiated Rate and Non-conforming Agreements filing to be effective 1/3/2020.

Filed Date: 12/23/19.

Accession Number: 20191223-5095.

Comments Due: 5 p.m. ET 1/6/20.

Docket Numbers: RP20-361-000.

Applicants: Iroquois Gas Transmission System, L.P.

Description: § 4(d) Rate Filing: 122319 Negotiated Rates—Mercuria Energy America, Inc. R-7540-02 to be effective 1/1/2020.

Filed Date: 12/23/19.

Accession Number: 20191223-5120.

Comments Due: 5 p.m. ET 1/6/20.

Docket Numbers: RP20-362-000.

Applicants: Transcontinental Gas Pipe Line Company, LLC.

Description: § 4(d) Rate Filing: List of Non-Conforming Service Agreements (Gateway) to be effective 1/1/2020.

Filed Date: 12/23/19.

Accession Number: 20191223-5148.

Comments Due: 5 p.m. ET 1/6/20.

Docket Numbers: RP20-363-000.

Applicants: El Paso Natural Gas Company, L.L.C.

Description: § 4(d) Rate Filing: Non-Conforming Agreement Update (SWG) to be effective 2/1/2020.

Filed Date: 12/23/19.

Accession Number: 20191223-5172.

Comments Due: 5 p.m. ET 1/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2019.
Nathaniel J. Davis, Sr.,
Deputy Secretary.

[FR Doc. 2019-28295 Filed 12-31-19; 8:45 am]

BILLING CODE 6717-01-P